ENVIRONMENTAL PROTECTION AGENCY

[FRL-9926-65-OECA]

Applicability Determination Index (ADI) Database System Recent Posting: Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and/or the Stratospheric Ozone Protection Program.

FOR FURTHER INFORMATION CONTACT: An electronic copy of each complete document posted on the Applicability Determination Index (ADI) database system is available on the Internet through the Resources and Guidance Documents for Compliance Assistance page of the Clean Air Act Compliance Monitoring Web site under “Air” at: http://www2.epa.gov/compliance/resources-and-guidance-documents-compliance-assistance. The letters and memoranda on the ADI may be located by control number, date, author, subpart, or subject search. For questions about the ADI or this notice, contact Maria Malave at EPA by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. EPA's written responses to these inquiries are commonly referred to as applicability determinations. See 40 CFR 60.5 and 61.06. Although the part 63 NESHAP regulations [which include Maximum Achievable Control Technology (MACT) and/or Generally Available Control Technology (GACT)standards] and § 111(d) of the Clean Air Act (CAA) contain no specific regulatory provision providing that sources may request applicability determinations, EPA also responds to written inquiries regarding applicability for the part 63 and § 111(d) programs. The NSPS and NESHAP also allow sources to seek permission to use monitoring or recordkeeping that is different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations.

EPA currently compiles EPA-issued NSPS and NESHAP applicability determinations, alternative monitoring decisions, and regulatory interpretations, and posts them to the ADI. In addition, the ADI contains EPA-issued responses to requests pursuant to the stratospheric ozone regulations, contained in 40 CFR part 82. The ADI is an electronic index on the Internet with over one thousand EPA letters and memoranda pertaining to the applicability, monitoring, recordkeeping, and reporting requirements of the NSPS, NESHAP, and stratospheric ozone regulations. Users can search for letters and memoranda by date, office of issuance, subpart, citation, control number, or by string word searches.

Today's notice comprises a summary of 56 such documents added to the ADI on April 7, 2015. This notice lists the subject and header of each letter and memorandum, as well as a brief abstract of the letter or memorandum. Complete copies of these documents may be obtained from the ADI through the OECA Web site at: www.epa.gov/compliance/monitoring/programs/caa/adi.html.

Summary of Headers and Abstracts

The following table identifies the database control number for each document posted on the ADI database system on April 7, 2015; the applicable category; the section(s) and/or subpart(s) of 40 CFR part 60, 61, or 63 (as applicable) addressed in the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of CAA § 307(b)(1). For example, this notice does not convert an applicability determination for a particular source into a nationwide rule. Neither does it purport to make a previously non-binding document binding.

ADI Determinations Uploaded on April 7, 2015
Control Number | Categories | Subparts | Title
M110015 | MACT, PART 63 NESHAP, NSPS | CC, G, Kb | Rule Interpretation on Raw Data Definition and Retention for Storage Vessels.
1400038 | NSPS | OOO | Applicability of Rule to Gypsum Handling Equipment at a Power Plant with Fuel Gas Desulfurization Units.
1100018 | NSPS | J | Alternative Monitoring Plan for Low Sulfur Bearing Fuel Gas Stream.
Z140006 | MACT, Part 63 NESHAP | YYYYY | Performance Test Waiver Request for EAF Secondary Dust Collection System.
M120012 | MACT, PART 63 NESHAP | FFFF | Alternative Monitoring Plan For Grab Sampling in Lieu of Continuous Monitoring of Caustic Scrubbers.
Z120001 | Part 61 NESHAP | J, V | Applicability Determination for NESHAP Subparts J and V Benzene Fugitive Equipment Leaks.
M120015 | MACT, PART 63 NESHAP, NSPS | J, UUU | Alternate Work Practice—SRU Sulfur Pit Bypass Lines.
Z140005 | Part 63 NESHAP | WWWWWW | Applicability Determination for Research and Development Unit under NESHAP Subpart WWWWWW.
M120018 | MACT, PART 63 NESHAP, NSPS | J, UUU | Alternative Monitoring in Lieu of COMS for Regenerators.
M120020 | MACT, PART 63 NESHAP | NNNNN | Alternative Monitoring for Caustic Scrubber Parametric Monitoring.
1200038 | NSPS | D | Stack COMS Relocation Determined By Equivalency Testing.
M120021 | MACT, PART 63 NESHAP | G, H | Approval of a Common Report Schedule—MACT Subparts G and H.
1200039 | NSPS | J | Alternative Monitoring for Hydrocracker Feed Surge Drum Vent Stream.
1200040 | NSPS | J | Alternative Monitoring for NHT Feed Surge Drum Off—Gas Vent Stream.
1200041 | NSPS | J | Alternative Hydrogen Sulfide Monitoring for Oleflex Reactor Vent Stream.
1200042 | NSPS | J | Alternative Hydrogen Sulfide Monitoring for Truck Loading, Storage Tank and Well Vent Gas Streams.
1200046 | NSPS | JJJJ | Single-Point Testing In Place of Method 1 or 1A—Engine Emission Testing.
1200062 | NSPS | KKK, Kb | Applicability of NSPS Subparts Kb and KKK for a Vapor Recovery Unit and Storage Tanks.
M120027 | MACT, PART 63 NESHAP | JJJ | Timing Issues in Determining MACT and Title V Applicability.
M120029 | MACT, PART 63 NESHAP | S | Approval of an Alternative Monitoring Frequency under the Pulp and Paper MACT.
1200087 | NSPS | Db | Revision to NSPS Method of Determining Compliance for Combined Effluent NOX CEMS.
Z140004 | MACT, PART 63 NESHAP | ZZZZ | Exemption for Emergency Engines at Commercial Area Sources from RICE NESHAP—Regulatory Interpretation.
1400016 | NSPS | EEEE, FFFF | Applicability Determination for Commercially Operated Contraband Incinerator.
1400019 | NSPS | WWW | Guidance on Alternative Compliance Timeline Requests for Landfill.
A140003 | Asbestos | M | Applicability of the Asbestos NESHAP as it Applies to Concrete Bridges.
M140006 | MACT, PART 63 NESHAP | A, MMMM | Continuing Requirements when Surface Coating Operations no Longer Meets Affected Source Criteria.
M140008 | MACT, PART 63 NESHAP | CC, G | Interpretation of Required Tank Inspection Frequency.
1400021 | NSPS | Dc, Ja | NOx Requirements for Boilers.
M140009 | MACT, PART 63 NESHAP | ZZZZ | Disapproval of an Engine De-Rate Proposal.
M140010 | MACT, PART 63 NESHAP | ZZZZ | Approval of an Engine De-rate Proposal.
M140011 | MACT, PART 63 NESHAP, NSPS | IIII, ZZZZ | Applicability to a Non-stationary Engine Relocated For Use as a Stationary Engine.
M140012 | PART 63 NESHAP | A, JJJJJJ | Determination of Force Majeure.
M140013 | PART 63 NESHAP | JJJJJJ | Regulatory Interpretation of Tune-up Requirements for Spreader Stoker Boiler.
M140014 | PART 63 NESHAP | JJJJJJ | Compliance Extension for Replacement Energy Source.
Z140007 | Part 63 NESHAP | BBBBBBB, VVVVVV | Rule Applicability to HAP-Containing Mixing Operations to Produce Acrylic-Based Stucco.
A140004 | Asbestos | M | Small Residence Exemption.
A140005 | Asbestos | M | Interim Method of Determination of Asbestos in Bulk Insulation Samples and Transmission Electron Microscopy.
M140016 | MACT, PART 63 NESHAP | DDDDD | Categorization and applicability of a Boiler using natural gas and tire derived fuel.
1400022 | NSPS | J | NSPS Fuel Gas Definition and Alternative Monitoring of Marine Vessel Loading Vapors.
1400023 | NSPS | J | Conditional CEMS Exemption Approval for Low Sulfur Combustion of Off-gas Vent Stream.
1400024 | NSPS | J | CEMS Exemption in Lieu of Alternative Monitoring for Combustion of Commercial Grade Natural Gas and Refinery Fuel Gas.
1400025 | NSPS | KKK | Regulatory Interpretation for Gas Plant Propane Refrigeration System.
1400026 | NSPS | OOOO | Applicability Determination for Reciprocating Compressors.
1400027 | MACT, PART 63 NESHAP, NSPS | J, UUU | Alternative Monitoring Plan for Wet Gas Scrubber on a Fluidized Catalytic Cracking Unit.
1400028 | NSPS | NNN, RRR | Alternative Monitoring and Waiver of Testing Request for Distillation Vent Gas to Process Heaters.
1400029 | NSPS | Ja | Request for Alternative Monitoring of Condensate Splitter Flare.
1400030 | NSPS | Ja | Alternative Monitoring Plan for Oxygen in Boiler Stack Emissions.
1400031 | NSPS | J, Ja | Alternative Hydrogen Sulfide Monitoring in Tank Degassing Vapors Combusted in Portable Thermal Oxidizers.
1400032 | NSPS | OOOO | Regulatory Interpretation—Submission of Photographs For Natural Gas Well Completion Annual Reports.
1400033 | NSPS | J, Ja | Alternative Hydrogen Sulfide Monitoring in Tank Degassing Vapors Combusted in Portable Thermal Oxidizers.
1400034 | NSPS | A, D | Regulatory Interpretation—Demonstrating Continuous Compliance and Reporting Excess Emissions for NSPS and Title V.
1400035 | NSPS | Ec | Alternative Operating Parameters for a Wet Gas Scrubber Followed By Carbon Adsorber and Cartridge Filter at an HMIWI.
1400036 | NSPS | Db | Alternative Monitoring Plan for Fuel Analysis from Subpart Db Boiler.
1400037 | NSPS | J | Conditional CEMS Exemption Approval for Low Sulfur Combustion of Off-gas Vent Stream.
1100017 | NSPS | J | Alternative Monitoring of Opacity for a Wet Gas Scrubber.

Abstracts

Abstract for [M110015]

Q1: What is EPA interpretation of raw data, in reference to 40 CFR 63.654 and 40 CFR 60.115b and the storage vessel recordkeeping provisions in NSPS subpart Kb, and Part 63 NESHAP subparts G and CC?

A1: EPA indicated to the Texas Commission on Environmental Quality Region 14 that although the phrase “raw data” does not have a regulatory definition, EPA has issued guidance on this subject to deal with air pollution measurement systems and the quality assurance procedures associated with such systems. In general, raw data is data that is captured and recorded on field data sheets during a measurement of some sort, such as sampling of emissions or testing of control equipment.

Q2: May a source, after transferring data from field data sheets into an electronic database, dispose of the field data sheets?

A2: No. Original field data sheets must be preserved whenever any sort of emissions sampling or equipment testing, such as measuring seal gaps in a storage tank, is performed. Transferring raw data into a database can introduce additional error in data transcription and entry.

Abstract for [1400038]

Q1: Is gypsum handling equipment at the Dominion Chesterfield Power Station in Chester, Virginia, subject to NSPS subpart OOO for Nonmetallic Mineral Processing Plants? Dominion acknowledges that a limestone crushing process at Chesterfield is subject to subpart OOO.

A1: Yes. The gypsum handling equipment is also subject to NSPS subpart OOO. The facility meets the definition of a nonmetallic mineral processing plant, and each affected facility at Chesterfield is subject to subpart OOO, including the belt conveyors used to transfer gypsum to storage sheds or loading docks.

Q2: Must the crushing or grinding of gypsum take place in the “production line” to be subject to subpart OOO?

A2: No. The definition of production line does not require that every affected facility be part of a production line with crushing or grinding. If crushing or grinding of a nonmetallic mineral occurs anywhere at the facility, then each affected facility is subject regardless of its location within the plant.

Q3: Are there other power plants with flue gas desulfurization units where the gypsum handling equipment is subject to subpart OOO?

A3: Yes. Based on a brief review of similar permits, EPA found at least three such power plants with permits where subpart OOO was applied to the gypsum handling equipment.

Abstract for [1100018]

Q: Does EPA approve the ConocoPhillips Sweeny, Texas Refinery Alternate Monitoring Plan (AMP) under NSPS subpart J? Conoco claims an exemption per 40 CFR 60.105(a)(4)(iv) because Flare #7 receives fuel gas waste from catalytic reforming units.

A: Yes. EPA conditionally approves ConocoPhillips's AMP. Conditional approval of alternative monitoring parameters is granted based on a requirement that the flare receive low sulfur/sulfide bearing streams waste fuel gas only from catalytic reformers. Any significant increase in the sulfur/sulfide concentration detected in the stream would initiate continuous monitoring under 40 CFR 60.105(a)(3) or (4). Introduction of other streams that are not from catalytic reformers require application of another AMP.

Abstract for [Z140006]

Q1: Does EPA approve of a waiver in the number of performance test sampling locations required to comply with particulate stack sampling requirements under 40 CFR part 63 subpart YYYYY for the electric arc furnace at ArcelorMittal's LaPlace, Louisiana facility?

A1: No. Based on the information provided, EPA could not approve the request to sample only three of the six emission points. Without the results of a previous performance test which included results for all six emission points, EPA could not confirm that emissions from three of the emission points might be representative of all six. Additionally, EPA reserves the right to determine which emission points should be sampled.

Q2: Can the 60-day testing notification requirement be waived, allowing ArcelorMittal a 30-day notification period?

A2: Yes. Based on the timing of ArcelorMittal's testing waiver request and the testing schedule, EPA is allowing a reduced testing notification timeframe. EPA asked that ArcelorMittal provide the Louisiana Department of Environmental Quality (DEQ) a written notice at least ten (10) days prior to the intended testing dates in order that DEQ be afforded the opportunity to observe the testing.

Abstract for [M120012]

Q: Does EPA approve the Alternative Monitoring Plan (AMP) for monitoring the caustic strength of scrubber effluent by a grab sample monitoring system, in lieu of continuously measuring caustic strength, under MACT subpart FFFF for the miscellaneous organic chemical manufacturing process units and caustic scrubbers controlling Group 1 Process Vents at the Dow Chemical plant in La Porte, Texas?

A: Yes. EPA approves the AMP based on the information provided. The plan to monitor scrubber caustic strength by grab sampling, in lieu of continuously measuring caustic strength, is technically acceptable. Subpart FFFF requires that the scrubbers be monitored continuously either via continuous pH measurement and recording as specified in 40 CFR 63.994(c)(1)(i) and 63.998(a)(2)(ii)(D), or via continuously monitoring and recording the caustic strength of the effluent. Use of a continuous pH meter or caustic strength analyzer may be unreliable due to fouling. The AMP includes frequent grab sampling to monitor caustic strength based on a worst case loading scenario.

Abstract for [Z120001]

Q: Is an inter-plant pipeline which transports liquids that are at least 10 percent benzene by weight between two major source facilities, each belonging to Equistar Chemicals in Alvin, Texas, subject to part 61 NESHAP subparts J and V?

A: Yes. An inter-plant pipeline that transports benzene liquids is an emission source that is in benzene service according to 40 CFR 61.110 and 61.111, regardless of whether or not the pipeline is defined as a discrete process unit. 40 CFR 61.110(a) includes valves, connectors or systems in benzene service, regardless of their location, and subpart V applies as the leak detection provision for subpart J, per 40 CFR 61.111.

Abstract for [M120015]

Q: Does EPA approve an alternate work practice for monitoring hydrogen sulfide (H2S) at bypass lines associated with sulfur recovery unit (SRU) sulfur pits, which are subject to both MACT subpart UUU and NSPS subpart J, and the terms of a Consent Decree (CD), at the Flint Hills Resources Corpus Christi, Texas East and West refineries?

A: No. EPA does not approve the alternate work practice because it would be in direct conflict with both the rule and the intent of the CD, and would result in non-compliance. The SRUs and sulfur pits are subject to a CD that requires sulfur pit emissions to be continuously monitored and counted toward SRU total emissions for compliance demonstration with the NSPS subpart J limit for sulfur dioxide (SO2). Since the alternative work practice proposed by Flint Hills did not include continuous monitoring per 40 CFR 60.104(a)(2), the data necessary to comply with the portion of the CD requiring aggregation of sulfur pit emissions for compliance demonstration with the NSPS subpart J SO2 limit would not be collected.

Abstract for [Z140005]

Q: Does EPA approve an exemption from NESHAP subpart WWWWWW under the definition of research and development for the electroplating and surface finishing facility at Los Alamos National Laboratory in New Mexico?

A: Yes. Based on a review of 40 CFR 63.11505(d)(2) and the definition of a research and development process unit at 40 CFR 63.11511, EPA determines that the facility meets the definition and is not subject to NESHAP subpart WWWWWW.

Abstract for [M120018]

Q: Will EPA approve Motiva Enterprises' (Motiva) Alternative Monitoring Plan (AMP) under 40 CFR 60.8 and 60.13(i)(3) for monitoring wet gas scrubbers (WGS) on a refinery Fluid Catalytic Cracking Unit (FCCU), in lieu of a Continuous Opacity Monitoring System (COMS), due to moisture interference on opacity readings in the stack, to demonstrate compliance with the opacity limit under 40 CFR 60.102(a)(2) and requirements of MACT subpart UUU at Motiva's Port Arthur, Texas refinery?

A: Yes. EPA conditionally approves Motiva's AMP. A performance test is necessary to establish Operating Parameter Limits (OPLs) and other operating and monitoring conditions required for demonstrating compliance with NSPS subpart J, MACT subpart UUU and the Consent Decree for each WGS. The EPA response letter specifies the operating conditions, operating parameters, test notice deadlines, and notification content that are conditions of the approval. Interim OPLs are provided.

Abstract for [M120020]

Q: Does EPA approve the Alternative Monitoring Plan (AMP) for parametric monitoring on caustic scrubbers used to control hydrochloric acid emissions from storage tanks, loading, and process vents under 40 CFR part 63 subpart NNNNN at the Rubicon facility in Geismar, Louisiana?

A: Yes. Based on the information provided in Rubicon's request, EPA conditionally approves the AMP. A minimum pH operating parameter limit (OPL), and a minimum recirculating liquid flow rate, pursuant to 40 CFR 63.9020(e)(1)(i), must be established during a performance test conducted under worst case emissions operating scenario. The scrubbers' effectiveness in meeting subpart NNNNN emission standards during normal operations will be ensured by continuous monitoring of the two OPLs.

Abstract for [1200038]

Q1: Can equivalency testing be approved to relocate the flue gas continuous opacity monitoring system (COMS) on the stack outlet of a wet gas scrubber (WGS) covered under NSPS subpart D at the Texas Municipal Power Agency (TMPA) Gibbons Creek Electric Steam Generating Station Unit 1?

A1: Yes. 40 CFR part 60 Appendix B Performance Specification 1 (PS 1) Section 8.1 (2)(i) and (ii) specify measurement location and light beam path requirements for COMS. If the proposed alternate COMS locations do not meet these requirements, equivalency testing must be conducted in accordance with PS 1 Section 8.1 (2)(iii) for each possible alternative location. Based on the test proposal, EPA approves the request for conducting preliminary equivalency testing only, with a 60-day notification provided to the State authority.

Q2: What if there are separate ducts that split the vent stream gas flow?

A2: Relocation and the preliminary equivalency testing must include the use of two COMS units in order to provide opacity readings representative of total emissions.

Q3: What must the facility do to obtain subsequent approval for permanent relocation of the stack COMS?

A3: TMPA must provide the data and operating information from the preliminary equivalency testing for the alternative location ultimately selected, in accordance with the applicable performance test reporting requirements of NSPS subparts A and D. In accordance with PS 1 Section 8.1 (2)(iii), the average opacity value measured at each temporary COMS at the selected alternate location must be within +/− 10 percent of the average opacity value measured at the existing flue gas stack COMS, and the difference between any two average opacity values must be less than 2 percent opacity (absolute value).

Abstract for [M120021]

Q: Does EPA approve a common schedule for submitting periodic reports under the Hazardous Organic part 63 NESHAP, subparts G and H, at the Union Carbide Texas City, Texas facility?

A: Yes. EPA approves the common schedule provided the reporting requirement of 40 CFR 63.152(c)(1) is satisfied, which only allows a 60-day lag between the end of the reporting period and the due date of a periodic report. EPA reviewed the requirements of 40 CFR 63.10(a)(6) and 63.9(i), and concurred that the proposed reporting schedule satisfies the requirements of 40 CFR 63.152(c)(1).

Abstract for [1200039]

Q: Does EPA approve an Alternative Monitoring Plan (AMP) for monitoring hydrogen sulfide (H2S) for a refinery hydrocracker feed surge drum off-gas vent stream combusted at four hydrocracker heaters at the Valero Refining Corpus Christi, Texas West refinery?

A: Yes. EPA approves Valero's AMP based on the description of the process vent streams, the design of the vent gas controls, and the H2S monitoring data furnished. The approval specifies operating parameter limits for total sulfur and temperature. Valero must follow the seven step process detailed in the Valero consent decree appendix on Alternative Monitoring Plans for NSPS subpart J Refinery Fuel Gas.

Abstract for [1200040]

Q: Does EPA approve an Alternative Monitoring Plan (AMP) for monitoring hydrogen sulfide (H2S) for a refinery process feed surge drum off-gas vent stream combusted at a charge heater under NSPS subpart J at the Valero Refining Corpus Christi, Texas West refinery?

A: Yes. EPA approves Valero's AMP based on the description of the process vent stream, the design of the vent gas controls, and the H2S monitoring data furnished. The approval specifies operating parameter limits for total sulfur and temperature. Valero must follow the seven step process detailed in the Valero consent decree appendix on Alternative Monitoring Plans for NSPS subpart J Refinery Fuel Gas.

Abstract for [1200041]

Q: Does EPA approve an alternative monitoring request for monitoring hydrogen sulfide (H2S) the No. 4 vent stream at the Valero Refining West Plant in Corpus Christi, Texas? The request involves vent streams from the Oleflex Reactor Lock Hopper Engager off-gas vent stream combusted at the Oleflex Interheater.

A: Yes. EPA approves Valero's alternative monitoring request based on the description of the process vent stream, the design of the vent gas controls, and the H2S monitoring data furnished. There will be no points where sour gas can be introduced into the vent gas stream. The effluent is to be sampled and tested daily. Valero must follow the seven step process (Alternative Monitoring Plans for NSPS subpart J Refinery Fuel Gas) in the consent decree for the No. 4 vent stream.

Abstract for [1200042]

Q: Does EPA approve an Alternative Monitoring Plan (AMP) for monitoring hydrogen sulfide (H2S) of vent gases from the control of diesel and jet fuel truck loading, toluene and reformate storage tanks, and groundwater recovery wells at the Valero Refining Corpus Christi, Texas East refinery? The vent streams are combusted at the truck rack thermal oxidizer enclosed vapor combustor.

A: Yes. EPA approves Valero's AMP based on the description of the process vent stream, the design of the vent gas controls, and the H2S monitoring data furnished. Valero must follow the seven step process detailed in the Alternative Monitoring Plans for NSPS subpart J Refinery Fuel Gas appendix of Valero's consent decree. The approval specifies an H2S operating limit from each of the emission sources (e.g., loading, tanks, wells) covered by the AMP.

Abstract for [1200046]

Q: Does EPA approve single-point testing in place of Method 1 or 1A for required testing of engine emissions under 40 CFR part 60 subpart JJJJ, for the ConocoPhillips Lake Pelto Compressor Barge, located offshore in southern Louisiana?

A: Yes. EPA approves ConocoPhillips' single-point testing, since the engines are located over water, and are difficult to test due to limited space.

Abstract for [1200062]

Q1: Is the installation of a backup vapor recovery unit (BU-VRU) to capture emissions from a glycol dehydrator unit, which includes a compressor, at the Marathon Petroleum Indian Basin Gas Plant near Carlsbad, New Mexico, considered a modification of an affected facility and thus subject to NSPS subpart KKK?

A1: Based on the information provided by the Air Quality Bureau of the New Mexico Environment Department (AQB-NMED), EPA determines that the installation of the BU-VRU compressor at the Indian Basin Gas Plant is subject to NSPS subpart KKK. The compressor is an affected facility under NSPS subpart KKK that was constructed after the applicability date and is presumed to be in VOC or wet gas service. The pollution control device exemption in 40 CFR 60.14(e) of the General Provisions is superseded by 40 CFR 60.630 and therefore does not apply. In addition, the NSPS subpart KKK does not include exemptions for compressor emergency operations or operating less than 500 hours per year. With respect to whether the other affected facility, which includes all other equipment (except compressors), that are part of the glycol dehydrator process unit, EPA cannot make a modification determination since there is no information on emission increases or decreases available.

Q2: Are the two storage tanks at the Indian Basin Gas Plant subject to NSPS subpart Kb, or are they exempt under the custody transfer exemption in 40 CFR 60.110b(d)(4)?

A2: Based on the information provided by AQB-NMED, EPA determines that the storage tanks are subject to NSPS subpart Kb. The Indian Basin Gas Plant is not part of the producing operation and its tanks are after the point of custody transfer as defined at 40 CFR 60.111(b). Therefore, the tanks do not qualify for the “prior to custody transfer” exemption in 40 CFR 60.110b(d)(4).

Abstract for [M120027]

Q1: Does EPA agree with the determinations of the Portsmouth Local Air Agency and the Southeast District Office of the Ohio EPA that the America Styrenics Hanging Rock and Marietta, Ohio facilities are subject to the MACT if they changed processes after the compliance date such that their potential emissions are well below the HAP major source thresholds?

A1: Yes. Based on the information provided by the Portsmouth Local Air Agency, EPA determines that the facilities are still subject to the major source MACT standard because it is EPA's position that any source that is a major source of HAP on the first substantive compliance date of an applicable NESHAP will remain subject to that NESHAP regardless of the level of the source's subsequent emissions.

Q2: Are these facilities still subject to Title V if their HAP emissions potential was the only criteria that made them subject to Title V requirements?

A2: Yes. Because the facilities are subject to a major source MACT standard, they are also subject to Title V permitting requirements under Section 502(a) of the CAA, 42 U.S.C. 7661a(a).

Abstract for [M120029]

Q: Does EPA approve an alternative monitoring frequency for inspections of once per month rather than every 30 days under the Pulp and Paper MACT for Smurfit-Stone Container Corporation in Coshocton, Ohio?

A: Yes. EPA approves this minor modification to the monitoring frequency under 40 CFR 63.8(b)(i) provided that the monitoring events are at least 21 days apart.

Abstract for [1200087]

Q: Does EPA approve a request to use a subtractive method for the NOx compliance determination and use of a temporary Continuous Emission Monitoring System (CEMs) for the initial performance test for a NSPS subpart Db affected facility at Valero Refining's Ethanol Plant in Bloomingburg, Ohio? The proposed method uses combined emissions from this subpart Db facility and another affected facility as determined by a Continuous Emission Monitoring System (CEMS), and subtracts the emissions from the other facility as read by a separate CEMS.

A: Yes. EPA approves the subtractive compliance determination approach under 40 CFR 60.8(b) authority for the initial performance testing. This request was necessary because, while the NSPS allows for the location of a CEMS in a stack serving multiple affected sources for the purpose of demonstration of continuous compliance, no such allowance is made for the initial performance testing requirement.

Abstract for [Z140004]

Q1: Are emergency engines located at commercial sources that are used for telecommunications purposes exempt from the Reciprocating Internal Combustion Engines (RICE) NESHAP regulations at 40 CFR part 63, subpart ZZZZ?

A1: Yes. The requirements at 40 CFR part 63.6590(b)(3) state that emergency engines located at area sources that are classified as commercial, institutional or residential emergency stationary RICE are not subject to the requirements at 40 CFR part 63, subpart ZZZZ.

Q2: Are emergency engines used by telecommunication facilities that are installed and located on industrial property also exempt?

A2: The applicability of the RICE NESHAP is dependent on whether the commercial or industrial operation has common control over the emergency engine. If the industrial facility has control, the engine could be subject to the RICE NESHAP.

Abstract for [1400016]

Q1: Is Kippur Corporation's (Kippur) dual chamber, commercial incinerator which thermally destroys contraband for U.S. Customs and Border Protection in El Paso, Texas subject to regulation as an “other solid waste incineration” (OSWI) unit under 40 CFR part 60 subparts EEEE and FFFF?

A1: Yes. Based on the information submitted by Kippur, EPA determines that the contraband incinerator is an OSWI unit subject to either NSPS subpart EEEE or subpart FFFF. In addition, the incinerator would not be subject to subpart EEEE because an air pollution abatement equipment is not considered part of an OSWI unit. Therefore, the increased feed rate caused by the higher air flow volume resulting from the addition of a second baghouse on the OSWI unit does not constitute a modification of the incinerator under NSPS subpart EEEE. Based on this and additional supplemental information Kippur provided, the OSWI Unit is therefore subject to NSPS subpart FFFF since subpart EEEE applicability was not trigger with the OSWI unit changes consistent with 40 CFR 60.2992.

Q2: Does EPA approve a petition for approval of operating parameter limits (OPLs) in lieu of installing a wet scrubber to comply with emission limitations?

A2: No. In a separate September 12, 2012 letter, EPA disapproved the petition because specific information was lacking for final approval. Therefore, Kippur must comply with the appropriate NSPS subpart FFFF requirements.

Abstract for [1400019]

Q1: The Cornerstone Environmental Group, LLC. on behalf of American Disposal Services of Illinois, which owns the Livingston Landfill, requests a clarification as to whether the Alternative Compliance Timeline (ACT) requests are due 15 days after an initial exceedance is identified through required monitoring activities, pursuant to the requirements in 40 CFR 60.755(a)(3) and (a)(s).

A1: EPA indicates that 40 CFR 60.755 requires landfill owner/operators to repair the cause of an exceedance within 15 days, or expand the gas collection system within 120 days. In the event that the landfill owner or operator, despite its best efforts, is unable to make the necessary repairs to resolve the exceedance within 15 days, and it believes that an expansion of gas collection is unwarranted, the landfill owner or operator may submit for approval an ACT request for correcting the as soon as possible (i.e., as soon as it knows that it will not be able to correct the exceedance in 15 days and it is unwarranted to expand the gas collection system) to avoid being in violation of the rule and communicate the reasons for the exceedance, results of the investigation, and schedule for corrective action.

Q2: Are ACT requests necessary if the owner/operator chooses to expand the gas collection system and is unable to complete the expansion project within 120 days?

A2: Yes. The landfill owner or operator may submit an ACT request as soon as it determines that it cannot meet the 120 day deadline to avoid being in violation of the rule. See above response under A1.

Q3: What information is included in an ACT request?

A3: EPA's response describes a number of items that should be included, at a minimum. The request must promptly identify the problem, be very detailed, and contain substantial reasons beyond the control of the facility owner or operator why the exceedances could not and cannot be completed within the prescribed time frame allowed in the rule.

Q4: If a facility makes repairs to a well to restore the well field to its original designed capacity, or replaces the well in-kind, does that constitute an expansion of the gas collection system (thereby causing the 120-day deadline to be applicable)?

A4: No. An expansion of the gas collection system consists of an increase beyond the original design capacity.

Abstract for [A140003]

Q1: Are bridges considered regulated structures under the asbestos NESHAP?

A1: Yes. In a response to the California Air Resource Board, EPA indicated that a bridge is a structure within the definition of a facility. As discussed in the October 1990 Background Information Document for Asbestos, it is prudent not to exclude structures such as bridges.

Q2: Is a thorough inspection of a bridge for the presence of asbestos, including Category I and Category II, required under the asbestos NESHAP?

A2: Yes. Under 40 CFR 61.145(a), a thorough inspection of any facility is required before demolition or renovation to identify friable asbestos, Category I and Category II nonfriable asbestos-containing material (ACM) and Category I and Category II nonfriable ACM that are not friable at the time of the inspection but will be made friable due to the demolition or renovation.

Q3: Is bridge concrete Category I, or is it Category II nonfriable ACM?

A3: Bridge concrete is not listed as Category I nonfriable ACM. According to 40 CFR 61.141, Bridge concrete is considered Category II nonfriable ACM if it contains more than 1 percent asbestos that, when dry, cannot be crumbled, pulverized, or reduced to powder by hand pressure.

Q4: Must bridge concrete be sampled for the presence of asbestos before demolition?

A4: The bridge concrete must be thoroughly inspected. See 40 CFR 61.145(a). Sampling is done to determine whether the material is ACM or not. The amount of ACM that is or will be made friable during the demolition factors into whether asbestos NESHAP requirements apply.

Q5: If the bridge concrete was never tested for the presence of asbestos before demolition and now the concrete is going to be crushed and recycled, must the concrete be tested for asbestos before crushing and recycling?

A5: The concrete at a demolition operation regulated by 40 CFR 61.145 must be thoroughly inspected before the demolition operation to determine whether the material is ACM. The recycling could be considered part of the demolition operation and require the owner/operator to sample to determine whether the concrete is ACM. The results will determine whether the concrete can continue to be recycled or must be managed and disposed of as regulated ACM.

Abstract for [M140006]

Q: Does K&K Ironworks in Chicago, Illinois remain subject to 40 CFR part 63 subpart MMMM given that they no longer use the quantity of coatings required by 40 CFR 63.3881(b) for an affected source to be covered by Subpart MMMM, and they meet the criteria established at 40 CFR 63.3881(c)(1) to be excluded from coverage of subpart MMMM?

A: Although K&K Ironworks of Chicago operations no longer fall under the types of activities subject to Subpart MMMM, there may be requirements of subpart MMMM and 40 CFR part 63 subpart A that did not immediately terminate when the company discontinued the use of coatings that contain HAPs. For example, the records retention and recordkeeping requirements at 40 CFR 63.3931(b) and 63.10(b)(3) are continuing obligations, that were triggered when the company used xylene.

Abstract for [M140008]

Q: Frontier Refining requested an applicability determination regarding the timing of tank inspections to meet the annual tank inspection requirements under NESHAP subpart G for the Holly Frontier facility in Wyoming. Can the annual inspection requirement be accomplished within an 11-13 month window from the prior inspection?

A: Yes. If a regulation does not specifically state what is meant by the “once per” (timeframe), the EPA interprets the timeframe to mean at some point within the timeframe and at a reasonable interval between events. See, for example, 40 CFR 63.100(k)(9)(iii). A once per month obligation means sometime within the month, but not the last day of one month and the first day of the next month, because that is not a reasonable time interval. For annual requirements, a reasonable interval between events would be between 11 and 13 months.

Abstract for [1400021]

Q: Does EPA agree that Calumet Superior's two steam generating boilers located at its petroleum refinery in Superior, Wisconsin, and which are fuel gas combustion devices (FGCDs) affected facilities under NSPS subpart Ja, do not meet the definition of a process heaters under NSPS subpart Ja, and therefore are not subject to the emission limits, performance testing, monitoring and excess emission reporting requirements for NOx located at 40 CFR 60.102a(g)(2), 60.104a(i), 60.107a(c), 60.107a(d) and 60.102a(i)?

A: Yes. EPA agrees that Calumet Superior's boilers meet the definition of FGCDs and do not meet the definition of process heaters under NSPS subpart Ja. Therefore, the boilers are not subject to any NOx requirements under NSPS subpart Ja. However, to the extent that the boilers are affected facilities under the Standards of Performance for Small Industrial-Commercial-Institutional Steam Generating Units, NSPS subpart Dc, they may be subject to NOx requirements.

Abstract for [M140009]

Q: May Benson Woodworking in Walpole, New Hampshire de-rate its Caterpillar 3306 Generator Set from its current capacity of greater than 300 brake horsepower hour (bhp) to less than 300 bhp by cutting the existing factory governor seal, resetting the loading screws to the lower output specification, and then resealing the governor with wire and a dealer specific lead stamp, to comply with the Reciprocating Internal Combustion Engines (RICE) NESHAP regulations at 40 CFR part 63, subpart ZZZZ?

A: No. The de-rate method proposal is not approvable by EPA. The proposed method of de-rating the engine is not permanent in nature.

Abstract for [M140010]

Q: Can the following physical changes to Benson Woodworking's Walpole, New Hampshire Caterpillar 3306 Generator Set, including: removal of the current 400 amp circuit breaker and associated frame; destruction of the 400 amp frame; and, fabrication and installation of a new frame to hold a smaller 250 amp circuit that would prevent the engine output from exceeding 299 bhp, result in a de-rating of engine's capacity to less than 300 bhp?

A: Yes. Based on the physical changes that Benson has proposed, EPA approves the de-rating of the unit to less than 300 bhp given the permanent nature of the physical changes to the unit.

Abstract for [M140011]

Q: Does the NSPS for Stationary Compression Ignition Internal Combustion Engines, subpart IIII apply to an existing marine propulsion engine manufactured March 22, 1999 (EU ID#4) that the Alaska Village Electric Cooperative (AVEC) is planning to relocate as a non-stationary engine at its existing power plant in Emmonak, Alaska?

A: No. The EU ID#4 engine is not subject to NSPS subpart IIII because it was manufactured prior to April 1, 2006, and commenced construction prior to July 11, 2005. The conversion of an existing non-stationary engine to use as an engine at a stationary source is not “commencement of construction” that would trigger new source status under this rule. However, the EU ID#4 existing engine would be subject to the NESHAP for Stationary Reciprocating Internal Combustion Engines (RICE), 40 CFR part 63 subpart ZZZZ when it is operated as a stationary source.

Abstract for [M140012]

Q1: Did a force majeure event, as defined in 40 CFR part 63 subpart A, occur at the Chena Power Plant in Fairbanks, Alaska?

A1: Yes. EPA determines that on April 28, 2014, a force majeure event occurred at the Chena Power Plant in Fairbanks, Alaska, when a mechanical failure of one of the facility's turbine generator rendered it inoperable.

Q2: Is a 60 day extension of the performance test deadline under NESHAP subpart JJJJJJ appropriate?

A2: Yes. The turbine generator, which is subject to a testing deadline, is needed for representative operation of the boiler when the load from winter district heating is not there to draw steam from the boiler. In 60 days (November 17, 2014) the load from winter district heating will be sufficient. Considering the time estimated to repair the turbine generator, it is reasonable to extend the deadline for the boiler compliance testing by 60 days.

Abstract for [M140013]

Q: Can EPA provide further guidance on how to conduct tune-ups under 40 CFR 63.11223(b), which is Condition 4 of the previously EPA approved one-year compliance deadline extension for the Eielson Air Force Base's Central Heat and Power Plant in Alaska? The four existing coal fired boilers subject to the compliance extension are of the spreader stoker/traveling grate design and do not have burners.

A: Yes. EPA amends the previous approval of the compliance extension to provide further guidance on Condition 4 of the approval, as detailed in the EPA response letter. EPA provides guidance on how to meet the requirements of 40 CFR 63.11223(b) when burners are not present. Some requirements of 40 CFR 63.11223(b) do not apply, while others requirements, such as adjusting the air-to-fuel ratio, and measurement of oxygen and carbon monoxide are still required to be performed.

Abstract for [M140014]

Q: Does EPA approve a one-year compliance extension to meet the NESHAP for Area Sources: Industrial, Commercial and Institutional Boilers, subpart JJJJJJ, for three existing coal-fired boilers (that operate as back-ups) located at the Brigham Young University in Idaho (BYU-Idaho)? The coal-fired boilers will be demolished and replaced with a new energy plant that will be fueled with natural gas.

A: EPA conditionally approves an extension until December 31, 2014, to operate three coal-fired boilers in their backup capacity without the installation of controls that would otherwise be required to meet the NESHAP subpart JJJJJ. The compliance deadline is extended because BYU-Idaho is constructing a natural gas source of energy generation as a replacement source of energy to meet requirements of the CAA standard. The approval is conditional on BYU-Idaho implementing: (1) interim compliance deadlines for the construction of the natural gas replacement energy; and (2) tune-ups specified in 40 CFR 63.11214 for existing coal-fired boilers with a heat input capacity of less than 10 MM BTU/hr that do not meet the definition of limited-use boiler, or an oxygen trim system that maintains an optimum air-to-fuel ratio.

Abstract for [Z140007]

Q: Which area source NESHAP regulation applies to the operations at the BASF Corporation Facility in Lancaster, Texas (Lancaster site)? The NESHAP regulations to evaluate include: NESHAP subpart BBBBBBB applicable to Chemical Preparations Industry area source category; NESHAP subpart VVVVVV applicable to the Chemical Manufacturing Source Category; and NESHAP subpart CCCCCCC applicable to Paints and Allied Products Manufacturing.

A: EPA finds that the NESHAP subpart BBBBBBB is applicable because the operations at the Lancaster site are mixing-type processes, which are typical of the Chemical Preparations Source Category. EPA understands the Lancaster Site produces architectural coatings, primarily acrylic latex-based stucco that contains aggregate, primarily sand. The Lancaster Site mixes latex dispersions produced off-site with aggregate and other additives to produce acrylic-based stucco.

Abstract for [A140004]

Q: Does EPA agree with the City of Sarasota, Florida that the demolition of a single-family residential building acquired by the city is not subject to the asbestos NESHAP subpart M due to the small residence exemption?

A: Yes. Based on facts presented in the Memorandum of Law from Sarasota and the definition of facility in the asbestos NESHAP, EPA determines the building meets the conditions of a small residential building (a building containing four or fewer dwelling units) and is not subject to the asbestos NESHAP regulation. The house was not used for any institutional, commercial, public, or industrial purpose prior to the demolition. It is not part of an installation, nor part of any public or private project.

Abstract for [A140005]

Q: Does EPA approve the Transmission Electron Microscopy test procedure in place of the point counting procedure used to make a determination of the presence of asbestos in bulk materials, as required under the asbestos NESHAP?

A: In a response to Masek Consulting Services, EPA indicates that the current asbestos regulation requires point counting after evaluating the sample by Polarized Light Microscopy. The owner/operator may choose to use Transmission Electron Microscopy only after analyzing the sample by Polarized Light Microscopy and point counting.

Abstract for [M140016]

Q: Does EPA agree that the Boise DeRidder Mill No. l Bark Boiler in DeRidder, Louisiana is a biomass hybrid suspension grate boiler under NESHAP subpart DDDDD?

A: Yes. EPA agrees that the boiler is subject to NESHAP subpart DDDDD. The Bark Boiler has characteristics that are consistent with the definition of hybrid suspension grate boiler at 40 CFR 63.7575. However, natural gas and tire derived fuel are also present as potential fuels in the boiler. Therefore, the facility must keep records to demonstrate that the annual average moisture content is at or above the 40 percent moisture limit, as required in the rule.

Abstract for [1400022]

Q: Does EPA approve the alternative monitoring plan (AMP) for product vapors from marine vessel loading operations which are inherently low in sulfur content, and are combusted in the Marine Vapor Recovery (MVR) Flare No.3, under NSPS 40 CFR 60 subpart J for the Chalmette Refining's Chalmette, Louisiana refinery?

A: EPA determines that the AMP is no longer necessary since the definition of fuel gas has been modified under the September 12, 2012 amendment to subpart J (77 Federal Register 56463). The marine vessel loading vapor stream does not meet the definition of a fuel gas, as defined at 40 CFR 60.101(d). Therefore, MVR Flare No.3 does not need to meet the continuous monitoring requirements of either 40 CFR 60.105(a)(3) or 60.105(a)(4).

Abstract for [1400023]

Q: Can an exemption from monitoring be approved for a fuel gas stream that is low in sulfur content under NSPS subpart J, for the off-gas vent stream from the Gasoline Desulfurization Unit Selective Hydrogenation Unit Surge Drum Vent that is routed to the North Flare at the Marathon Oil facility in Garyville, Louisiana?

A: Yes. Based on Marathon's description of the process vent streams, the design of the vent gas controls, and the H2S monitoring data furnished, EPA conditionally approves the exemption. EPA finds that, when controlled as delineated in the response letter, the vent gas stream combusted is inherently low in sulfur, according to 40 CFR 60.105(a)(4)(iv)(D), and does not need to meet the continuous monitoring requirements of 40 CFR 60.105(a)(3) or 60.105(a)(4). EPA included the facility's proposed operating parameter limits, which the facility must continue to monitor, as part of the conditional approval.

Abstract for [1400024]

Q: Can an exemption in lieu of Alternative Monitoring Plan be approved for a fuel gas stream that is low in sulfur under NSPS 40 CFR 60 subpart J at the ExxonMobil refinery in Baytown, Texas? The refinery proposes to combust commercial grade natural gas as a supplemental fuel, in combination with refinery fuel gas vent streams.

A: Yes. Based on ExxonMobil's description of the process vent streams, the design of the vent gas controls, and the H2S monitoring data furnished, EPA conditionally approves the exemption. EPA finds that the mixture of non-monitored commercial natural gas and refinery fuel vent gas stream combusted is inherently low in sulfur, according to 40 CFR 60.105(a)(4)(iv)(D), when used and controlled as described in the EPA response letter. EPA included the facility's proposed operating parameter limits, which the facility must continue to monitor, as part of the conditional approval. Therefore, the fuel gas combustion devices listed in the request do not need to meet the continuous monitoring requirements of 40 CFR 60.105(a)(3) or 60.105(a)(4).

Abstract for [1400025]

Q: Is the propane refrigeration system used at the Enbridge Nine Mile Gas Plant in Dewey County, Oklahoma subject to the requirements of NSPS 40 CFR 60 subpart KKK?

A: Yes. EPA determines that propane system is subject to NSPS KKK based upon the information the company provided. The propane refrigeration system is a process unit that can also operate independently if supplied with sufficient feed. The propane refrigeration system is “equipment” under 40 CFR 60.631 because it consists of valves, connectors, and compressors in VOC service. These components are in light liquid VOC service because they contain or contact propane, which constitutes at least 97 percent by weight of content of the refrigeration system, and the propane is a liquid within the operating conditions of the refrigeration system.

Abstract for [1400026]

Q: Are two natural gas reciprocating compressors which were transferred from a “laydown” yard to the Fayetteville Gathering Hattieville Compressor Station, located in Hattieville, Arkansas, affected facilities subject to the requirements of NSPS subpart OOOO?

A: No. Relocation, by itself, does not trigger NSPS applicability through modification. Based upon the fact that the company commenced construction of the two compressors on a continuous basis prior to the effective date of NSPS subpart OOOO, nor were they modified, these units are not affected facilities under the subpart. EPA clarified in final rule preamble to NSPS OOOO that relocation does not subject a source to new source standards. Additionally, the General Provisions to Part 60 contain similar language, that relocation or change in ownership, by itself, is not a modification.

Abstract for [1400027]

Q1: Does EPA provide final approval of an Alternative Monitoring Plan (AMP) for parametric monitoring in lieu of a continuous opacity monitor for a Wet Gas Scrubber (WGS) on a Fluidized Catalytic Cracking Unit (FCCU) at Holly Refining & Marketing in Tulsa, Oklahoma (Holly) under NSPS 40 CFR 60, subpart J, and NESHAP 40 CFR 63, subpart UUU, based on submittal of test results?

A1: Yes. EPA grants final approval of Holly's AMP request. Holly conducted a performance test and submitted additional data pertaining to a prior, conditionally approved AMP. EPA reviewed the performance test results and found the data supportive for establishing final OPLs for the WGS, which included minimum Liquid-to-Gas Ratios, based on 3-hour, hourly rolling averages, for operation of the WGS with one or two nozzles.

Abstract for [1400028]

Q: May the Ineos Chocolate Bayou facility in Alvin, Texas, which is subject to both 40 CFR part 60, Standards of Performance for Volatile Organic Compound (VOC) Emissions from Synthetic Organic Chemical Manufacturing Industry (SOCMI) Distillation Operations (NSPS subpart NNN) and Reactor Processes (NSPS subpart RRR) use the monitoring and testing provisions in NSPS subpart RRR in lieu of NSPS subpart NNN for the process heaters?

A: Yes. EPA approves the request for meeting Subpart RRR in lieu of NSPS subpart NNN requirements for testing, monitoring, and recordkeeping for use of process heaters as control devices for compliance with the standards of both subparts. This would require monitoring of small vent and drain valves utilized for maintenance events during maintenance in accordance with NSPS subpart RRR since they act as bypass valves. In addition, the schematic required by 40 CFR 60.705(s) is required with the initial report and must be maintained on site to ensure that the affected vent streams are being routed to appropriate control devices without bypass.

Abstract for [1400029]

Q1: Does EPA agree with Kinder Morgan that the Condensate Splitter Flare located at the Galena Park Condensate Processing Facility in Harris County, Texas is subject to NSPS subpart Ja?

A1: No. EPA is unable to verify applicability of NSPS subpart Ja because sufficient information about the facility or the operations and processes vented to the flare were not provided.

Q2: Does EPA approve an Alternative Monitoring Plan (AMP) request for the Condensate Splitter Flare?

A2: No. Kinder Morgan did not furnish sufficient detail about vent streams routed to the flare, or adequately describe the specific refinery process that would produce low sulfur content vent streams. Assuming the vent streams are fuel gas streams subject to NSPS subpart Ja, we cannot approve any AMP that seeks to circumvent a specific emissions monitoring requirement for affected facility operations. Under NSPS, new facilities must be constructed in such a manner that monitors are installed to demonstrate initial compliance and ensure ongoing compliance until such time that an exemption can be met. Furthermore, applications for exemptions to a rule must provide sufficient data at the time of the request in order to be evaluated for approval.

Abstract for [1400030]

Q1: Does EPA approve the HollyFrontier Companies' request for approval of an Alternative Monitoring Plan (AMP) for monitoring oxygen in the stack, in lieu of parametric monitoring to substitute for a Continuous Emissions Monitoring System, for the hydrocracker reboiler at Navajo Refining's Artesia, New Mexico refinery (Navajo), to comply with the NOX and oxygen standards in NSPS, 40 CFR part 60 subpart Ja?

A1: Yes. EPA determines that Navajo's AMP that combines monitoring oxygen in the stack along with other specific process monitoring parameters is acceptable based on the limited usage of refinery fuel gas and the information submitted, including the performance test results. Navajo sampled the fuel gas at the reboiler to demonstrate that the stream is 100 percent purchased natural gas. Also, to improve the efficiency of the heater, Navajo installed new burner tips to better combust the purchased natural gas. As a result, NOX and O2 emissions were reduced, as verified by a performance test.

Abstract for [1400031]

Q: Does EPA approve an Alternative Monitoring Plan (AMP) for PSC Industrial to conduct monitoring of H2S emissions at various locations in EPA Region 6, in lieu of installing a continuous emission monitoring system (CEMS), when performing tank degassing and other similar operations controlled by portable, temporary thermal oxidizers, at refineries that are subject to NSPS 40 CFR 60 subparts J or Ja?

A: Yes. EPA conditionally approves PSC Industrial's AMP request. Based on the description of the process, the vent gas streams, the design of the vent gas controls, and the H2S monitoring data furnished, EPA finds that it is impractical to require monitoring via an H2S CEMS as specified by NSPS subparts J and Ja for the specific portable and temporary combustion device use. EPA included operating parameter limits (OPLs) and data which the refineries must furnish as part of the conditional approval. This conditional approval applies to this company's refineries in EPA Region 6 only. EPA's conditional approval should also be referenced and appropriately incorporated into PSC Industrial's new source review permit in each state where degassing operations at refineries will occur, to ensure federal enforceability.

Abstract for [1400032]

Q: Can Samson Exploration, Houston, Texas submit hard copy photographs with the required GIS and date stamp data printed below each photograph in streamlined annual reports required under 40 CFR 60.5420(b)(2) of NSPS subpart OOOO?

A: Yes. The inclusion of such types of submissions in annual reports is acceptable. There is no regulatory prohibition against submitting hard copies which have the date and GIS coordinates printed beneath each photograph, provided that the proximity of each photograph and its associated data ensures clear correlation. EPA further clarified that, in conjunction with the self-certification statement required under 40 CFR 60.5420(b)(1)(iv), a statement should be included that digital images of the photographs for each well completion are retained, such that the digital image files contain embedded date stamps and geographic coordinate stamps to link the photographs with the specific well completion operations.

Abstract for [1400033]

Q: Can EPA approve an Alternative Monitoring Plan (AMP) for Tristar Global Energy Solutions Company (Tristar) to conduct monitoring of hydrogen sulfide (H2S) emissions, in lieu of installing a continuous emission monitoring system, when performing tank degassing and other similar operations controlled by portable, temporary thermal oxidizers, at refineries at various locations that are subject to NSPS subparts J or Ja?

A: Yes. Based on the description of the process, the vent gas streams, the design of the vent gas controls, and the H2S monitoring data furnished, EPA conditionally approves the AMP request. EPA included operating parameter limits and data which the refineries must furnish as part of the conditional approval. This conditional approval applies to Tristar's degreasing operations at refineries in EPA Region 6 only.

Abstract for [1400034]

Q1: Does EPA agree with Western Farmers Electric Cooperative (WFEC) that excess emission for the Hugo Generating Station, Choctaw County, Oklahoma coal-fired boiler, an “affected facility” under NSPS for Fossil Fuel Fired Steam Generators, subpart D, would only be reported for certain periods of operational status such as when the boiler is firing fuel for the purpose of generating electricity?

A1: No. EPA disagreed that reporting of excess emissions should be limited to certain periods of boiler operational status. EPA reiterated that the NSPS requires reporting of all periods of excess emissions, including those temporary occurrences that may result in a particular emission standard being exceeded. Required recordkeeping and reporting should be viewed, along with O&M and SSM protocols, as a company's substantiation of acting in good faith to demonstrate compliance with emission limitations, standards, and work practice standards at all times. EPA believes that WFEC has misinterpreted certain monitoring, recordkeeping and reporting provisions in the NSPS and MACT standards that a combustion source must meet for continuous compliance demonstration, which we explained in the Regulatory Interpretation enclosure of the EPA response.

Abstract for [1400035]

Q: Does EPA approve the alternative monitoring Operating Parameter Limits (OPLs) under NSPS subpart Ec, for a pollution control system on a new medical waste incinerator which consists of a wet gas scrubber (WGS) followed by a carbon adsorber and cartridge filter, located at the University of Texas Medical Branch (UTMBG) in Galveston, Texas?

A: Yes. EPA conditionally approves Hydro-Environmental Technologies petition on behalf UTMBG for an AMP. As part of the conditional approval, performance testing must be conducted to demonstrate compliance and establish OPL values for the WGS, carbon adsorber and cartridge filter. Final approval of the AMP will be based on the OPLs established and other provisions that may be deemed necessary from our evaluation of the test results.

Abstract for [1400036]

Q: Will EPA approve the Fuel Analysis Plan for monitoring total sulfur content of fuels in lieu of SO2 emissions monitoring under NSPS subpart Db for Industrial-Commercial Institutional Steam Generating Units for which construction, reconstruction, or modification commenced after June 19, 1984, at the No. 6 Power Boiler in Westvaco, Texas L.P. facility (Westvaco)?

A: Yes. EPA conditionally approves Westvaco's Fuel Analysis Plan, as delineated within the response letter. 40 CFR 60.45b(k) allows compliance to be demonstrated by a fuel based compliance alternative. The plan ensures that data will be collected to demonstrate that the average percentage sulfur concentration in the wood fuel, plus three standard deviations, will not result in a combined fuel mixture that will exceed the sulfur emission limit. Westvaco will continue to obtain and maintain fuel receipts for the other combusted fuels.

Abstract for [1400037]

Q: Can an exemption from monitoring be approved for a fuel gas stream that is low in sulfur content, under NSPS subpart J, for the off-gas vent stream from the Merox Off-gas Knockout Pot in the Alky Stripper Reboiler Heater, at the Valero Refining Meraux facility in Meraux, Louisiana?

A: Yes. Based on the description of the process vent streams, the design of the vent gas controls, and the H2S monitoring data furnished, EPA conditionally approves the exemption in light of changes made to NSPS subpart J on June 24, 2008 (73 Federal Register 35866). EPA finds that, when used and controlled as described in the response letter, the vent gas stream combusted is inherently low in sulfur according to 40 CFR 60.105(a)(4)(iv)(D) and therefore, the fuel gas combustion device does not need to meet the continuous monitoring requirements of 40 CFR 60.105(a)(3) or 60.105(a)(4) for the Merox Off-gas Knockout Pot fuel gas stream. Valero Meraux is required to monitor and control the relevant process parameters, as summarized in the Enclosure, as a condition of this exemption approval.

Abstract for [1100017]

Q: Can alternative monitoring be approved in lieu of a Continuous Opacity Monitoring System (COMS) since the moisture in the Fluid Catalytic Cracking Unit exhaust from the wet gas scrubber (WGS) will interfere with the ability of the COMS to take accurate opacity readings due to water interference for the Conoco Phillips Sweeny, Texas Refinery?

A: Yes. EPA approves the alternative monitoring based on information provided by Conoco, including a stack test report and three proposed operating parameters limits (OPLs) for the wet gas scrubber. The OPLs address nozzle pressure, pressure drop, and liquid to gas ratio.

Dated: April 13, 2015.
Lisa Lund,
Director, Office of Compliance.

[FR Doc. 2015-09242 Filed 4-20-15; 8:45 am]

BILLING CODE 6560-50-P